COMMISSION ON CIVIL RIGHTS

Sunshine Act Meeting Notice

AGENCY: United States Commission on Civil Rights.

ACTION: Notice of Commission Telephonic Business Meeting.

DATES: Wednesday, December 28, 2016, at 1:00 p.m. EST.

ADDRESSES: Meeting to take place by telephone.

FOR FURTHER INFORMATION CONTACT: Brian Walch, Director of Communications and Public Engagement, at (202) 376-8371 or publicaffairs@usccr.gov.

SUPPLEMENTARY INFORMATION: This business meeting is open to the public, by telephone only.

Participant Access Instructions: Dial in 5-10 minutes prior to the start time using the Participant phone number and Conference Passcode below.

Conference ID: 8072815.

Listen Only, Toll Free: 1-888-809-5987.

Persons with hearing impairments, please contact the above for how to access the Federal Relay Service for the meeting.

Meeting Agenda

I. Approval of Agenda

II. Vote on Chair

• Vote on President Obama's nomination of Catherine E. Lhamon to serve as Chair of the United States Commission on Civil Rights

III. Other Business

IV. Adjourn Meeting

Dated: December 20, 2016.
Brian Walch,
Director of Public Affairs, U.S. Commission on Civil Rights.

[FR Doc. 2016-30954 Filed 12-20-16; 11:15 am]

BILLING CODE 6335-01-P